DEPARTMENT OF ENERGY

Federal Energy Regulatory Commission

Combined Notice of Filings #1

Take notice that the Commission received the following electric corporate filings:

Docket Numbers: EC17-50-000.

Applicants: ITC Midwest LLC.

Description: Application Pursuant to Section 203 of the Federal Power Act to Acquire New Assets of ITC Midwest LLC.

Filed Date: 12/19/16.

Accession Number: 20161219-5425.

Comments Due: 5 p.m. ET 1/9/17.

Take notice that the Commission received the following electric rate filings:

Docket Numbers: ER10-1817-015; ER10-1818-014; ER10-1819-016; ER10-1820-019.

Applicants: Northern States Power Company, a Minnesota corporation, Northern States Power Company, a Wisconsin corporation, Public Service Company of Colorado, Southwestern Public Service Company.

Description: Supplement to November 7, 2016 Notice of Change in Status of Northern States Power Company, a Minnesota corporation, et al.

Filed Date: 12/19/16.

Accession Number: 20161219-5375.

Comments Due: 5 p.m. ET 1/9/17.

Docket Numbers: ER10-3177-001; ER10-3181-001; ER10-3285-001.

Applicants: UGI Utilities, Inc., UGI Development Company, UGI Energy Services, LLC.

Description: Updated Triennial Market Power Analysis for Northeast region of the UGI MBR Companies.

Filed Date: 12/19/16.

Accession Number: 20161219-5294.

Comments Due: 5 p.m. ET 2/17/17.

Docket Numbers: ER15-1775-003.

Applicants: Southwest Power Pool, Inc.

Description: Compliance filing: Basin Electric Power Cooperative Formula Rate Compliance Filing to be effective 10/1/2015.

Filed Date: 12/20/16.

Accession Number: 20161220-5114.

Comments Due: 5 p.m. ET 1/10/17.

Docket Numbers: ER15-1943-002.

Applicants: Southwest Power Pool, Inc.

Description: Compliance filing: Missouri River Energy Services Formula Rate Compliance Filing to be effective 10/1/2015.

Filed Date: 12/20/16.

Accession Number: 20161220-5105.

Comments Due: 5 p.m. ET 1/10/17.

Docket Numbers: ER17-581-000.

Applicants: ISO New England Inc.

Description: § 205(d) Rate Filing: Original Service Agreement No. SGIA-ISONE/CMP-16-01 under Schedule 23 to be effective 11/30/2016.

Filed Date: 12/19/16.

Accession Number: 20161219-5339.

Comments Due: 5 p.m. ET 1/9/17.

Docket Numbers: ER17-582-000.

Applicants: Westside Solar, LLC.

Description: Baseline eTariff Filing: Westside Solar, LLC Application for MBR Authority to be effective 2/17/2017.

Filed Date: 12/19/16.

Accession Number: 20161219-5352.

Comments Due: 5 p.m. ET 1/9/17.

Docket Numbers: ER17-583-000.

Applicants: Whitney Point Solar, LLC.

Description: Baseline eTariff Filing: Whitney Point Solar, LLC Application for MBR Authority to be effective 2/17/2017.

Filed Date: 12/19/16.

Accession Number: 20161219-5353.

Comments Due: 5 p.m. ET 1/9/17.

Docket Numbers: ER17-584-000.

Applicants: PJM Interconnection, L.L.C.

Description: § 205(d) Rate Filing: Queue Position AB2-027, Original Service Agreement No. 4588 to be effective 11/18/2016.

Filed Date: 12/19/16.

Accession Number: 20161219-5354.

Comments Due: 5 p.m. ET 1/9/17.

Docket Numbers: ER17-585-000.

Applicants: Michigan Electric Transmission Company.

Description: § 205(d) Rate Filing: Notice of Cancellation of METC RS No. 7 to be effective 11/19/2016.

Filed Date: 12/19/16.

Accession Number: 20161219-5357.

Comments Due: 5 p.m. ET 1/9/17.

Docket Numbers: ER17-586-000.

Applicants: International Transmission Company.

Description: § 205(d) Rate Filing: Notice of Termination of ITCT RS No. 10 to be effective 11/19/2016.

Filed Date: 12/19/16.

Accession Number: 20161219-5360.

Comments Due: 5 p.m. ET 1/9/17.

Docket Numbers: ER17-587-000.

Applicants: Southwest Power Pool, Inc.

Description: § 205(d) Rate Filing: 3290 Sholes Wind Energy, LLC GIA to be effective 12/5/2016.

Filed Date: 12/20/16.

Accession Number: 20161220-5033.

Comments Due: 5 p.m. ET 1/10/17.

Docket Numbers: ER17-588-000.

Applicants: Southwest Power Pool, Inc.

Description: § 205(d) Rate Filing: 1135R1 Public Service Co of OK and GRDA Interconnection Agr to be effective 12/1/2016.

Filed Date: 12/20/16.

Accession Number: 20161220-5034.

Comments Due: 5 p.m. ET 1/10/17.

Docket Numbers: ER17-589-000.

Applicants: Southwest Power Pool, Inc.

Description: § 205(d) Rate Filing: 3283 NextEra Energy and Sunflower Electric Meter Agent Agreement to be effective 12/1/2016.

Filed Date: 12/20/16.

Accession Number: 20161220-5110.

Comments Due: 5 p.m. ET 1/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2016.
Nathaniel J. Davis, Sr.,
Deputy Secretary.

[FR Doc. 2016-31147 Filed 12-23-16; 8:45 am]

BILLING CODE 6717-01-P